DEPARTMENT OF TRANSPORTATION

Federal Aviation Administration

Notice of Intent To Rule on Request for a Land Exchange at the Moriarty Municipal Airport, Moriarty, NM

AGENCY: Federal Aviation Administration (FAA), DOT.

ACTION: Notice.

SUMMARY: The Federal Aviation Administration (FAA) proposes to rule and invites public comment on the exchange of property at the Moriarty Municipal Airport, Moriarty, New Mexico. The City of Moriarty as airport owner has requested to exchange land that was acquired for a crosswind runway. Since this acquisition, it has been determined that the planned alignment of the proposed crosswind runway does not meet FAA crosswind criteria and requires realignment. Any and all lands to be exchanged by the city require release from any and all provisions of applicable Grant Agreements and Grant Assurances, and to change forever, the lands requested to be released from aeronautical to nonaeronautical use under the provisions of Section 125 of the Wendell H. Ford Aviation Investment Reform Act for the 21 Century (AIR 21). The City of Moriarty is requesting an exchange of 68.55 acres of land with the State of New Mexico Land Office. These lands to be exchanged are appraised at equal value and no monetary considerations are involved. The City of Moriarty will also exchange 9.63 acres of land with an individual property owner. These lands have also been appraised at equal value and no monetary considerations are involved. The acquisition of these lands by exchange and fee simple purchase of additional property will align the future runway to meet FAA criteria and user requirements.

DATES: Effective Date: Comments must be received on or before February 4, 2009.

ADDRESSES: Comments on this application may be mailed or delivered to the FAA at the following address: Mr. Lacey D. Spriggs, Manager, Federal Aviation Administration, Southwest Region, Airports Division, Louisiana/New Mexico Airports Development Office, ASW-640, Fort Worth, Texas 76193-0640.

In addition, one copy of any comments submitted to the FAA must he mailed or delivered to the Honorable Adan Encinias, Mayor, City of Moriarty, PC Box 130, Moriarty, New Mexico 87035.

FOR FURTHER INFORMATION CONTACT: Sarah Conner, Program Manager, Federal Aviation Administration, LA/NM Airports Development Office, ASW-640G, 2601 Meacham Boulevard, Fort Worth, Texas 76193-0640.

The request to release property may be reviewed in person at this same location.

SUPPLEMENTARY INFORMATION: The FAA invites public comment on the request to exchange of this property in that: The release of 78.48 acres from the Grant Agreement Grant Assurances and incorporation of the same amount of land into dedicated airport property, all under the provisions of AIR 21.

The following is a brief overview of the request:

The city of Moriarty as owner of the Moriarty Municipal Airport has requested of the Federal Aviation Administration to exchange approximately 78.48 acres for land of the same size adjacent to the airport and an individual property owner. The exchange in addition to separate fee simple acquisition, will provide the land needed for the construction of the proposed crosswind runway. The lands of the tracts requested to be released will be changed from aeronautical to non-aeronautical use and the lands released from the conditions of the Airport Improvement Program Grant Agreement Grant Assurances. Upon this exchange the Assurances of the Grant Agreements shall hereafter apply to all new lands. All land to be acquired by exchange.

Any person may inspect the request in person at the FAA office listed above under FOR FURTHER INFORMATION CONTACT.

In addition, any person may, upon request, inspect the application, notice and other documents germane to the application in person at the office of Mayor Adan Encinias, city of Moriarty, P.O. Box 130, Moriarty, NM.

Issued in Fort Worth, Texas on December 11, 2008.
Kelvin Solco,
Manager, Airports Division.

[FR Doc. E8-31241 Filed 1-2-09; 8:45 am]

BILLING CODE 4910-13-M